DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before April 30, 2001.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590 or at http://dms.dot.gov.

This notice of receipt of applications for new exemptions is published in accordance with Part 107 of the Federal hazardous materials transportation law (49 U.S.C. 5117(b); 49 CFR 1.53(b)).

Issued in Washington, DC, on March 22, 2001.
R. Ryan Posten,
Exemptions Program Officer, Office of Hazardous Materials Exemptions and Approvals.

Application No. | Docket No. | Applicant | Regulation(s) affected | Nature of exemption thereof
New Exemptions
12644-N | RSPA-01-9072 | Global Composites International, Inc. San Dimas, CA | 49 CFR 173.302(a), 173.304(a)(1), 175.3 | To authorize the manufacture, mark, sale and use of non-DOT specification cylinders for use in transporting certain flammable and nonflammable compressed gases. (modes 1, 2, 3, 4)
12645-N | RSPA-01-9068 | Draeger Safety, Inc. Pittsburgh, PA | 49 CFR 173.301, 173.34 | To authorize transportation in commerce of non-DOT specification cylinders manifolded with one pressure relief device to be used as part of a self contained breathing apparatus for transporting oxygen. (modes 1, 4)
12646-N | RSPA-01-9071 | Consani Engineering Elsie River, SA | 49 CFR 178.270, 178.271, 178.272 | To authorize transportation in commerce of IM101 and IM102 portable tanks for use in transporting certain classes of hazardous materials. (modes 1, 2, 3)
12647-N | RSPA-01-9062 | Wisconsin Public Service Corporation (WPSC) Green Bay, WI | 49 CFR 173.403, 173.427(b)(1) | To authorize transportation in commerce of two steam generator assemblies as surface contaminated objects that exceed the authorized quantity limitations. (mode 3)
12649-N | RSPA-01-9063 | Matheson Tri-Gas East Rutherford, NJ | 49 CFR 173.302(a)(5), 173.302(f) | To authorize transportation in commerce of DOT 3AL cylinders filled with carbon monoxide not authorized for transportation by cargo vessel. (mode 3)
12650-N | RSPA-01-9064 | Coleman Powermate, Inc. Kearney, NE | 49 CFR 173.34(d) | To authorize transportation in commerce of 3AL cylinders equipped with spring-loaded pressure relief devices for use in transporting hydrogen absorbed in metal hydride. (modes 1, 2, 3, 4)
12651-N | RSPA-01-9065 | I.W.I. Medical Waste Management, Inc. New Smyrna Beach, FL | 49 CFR 172.101 Col 8(b) & 8(c), 173.197 | To authorize transportation in commerce of solid regulated medical waste in non-DOT specification packaging consisting of a bulk outer packaging and a non-bulk inner packaging. (mode 1)
12652-N | RSPA-01-9061 | Eagle-Picher Technologies, LLC Joplin, MO | 49 CFR 173.302(a), 173.34(d), 175.3 | To authorize transportation in commerce of certain non-DOT specification pressure vessels containing compressed hydrogen, which are a component of a nickel hydrogen battery. (modes 1, 2, 4)
12656-N | RSPA-01-9144 | Piper Impact, Inc. New Albany, MS | 49 CFR 178.35(G) | To authorize manufacture, marking, sale and use of DOT specification 3AL cylinders except that total weight and volumetric capacity records for each individual cylinder produced are not required in the inspector's report. (modes 1, 2)
12657-N | RSPA-01-9150 | Oshkosh Truck Corporation Oshkosh, WI | 49 CFR 178.345-3(f)(3)(i) | To authorize transportation in commerce of cargo tanks equipped with attachments that exceed the authorized spacing limits. (mode 1)
12658-N | RSPA-01-9149 | Montgomery Manufacturing Company Kennedale, TX | 49 CFR 172.201(a)(4) | To authorize transportation in commerce of certain hazardous materials with alternative information on shipping papers. (mode 1)
12661-N | RSPA-01-9217 | United Parcell Service, Inc. (UPS) Atlanta, GA | 49 CFR 171.2(a)&(b), 172 Subparts C, D&E, 173.1, 173.22, 173.24, 177.801, 177.817 | To authorize transportation in commerce of certain hazardous materials that are not properly packaged, marked, labeled or classed in accordance with the 49 CFR. (mode 1)

[FR Doc. 01-7662 Filed 3-28-01; 8:45 am]

BILLING CODE 4910-60-M